DEPARTMENT OF COMMERCE

Foreign-Trade Zones Board

[Order No. 2153]

Approval of Expansion of Subzone 98A; Mercedes-Benz U.S. International, Inc.; Moundville, Vance and Woodstock, Alabama

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the City of Birmingham, grantee of Foreign-Trade Zone 98, has made application to the Board to expand Subzone 98A on behalf of Mercedes-Benz U.S. International, Inc. in Moundville, Vance and Woodstock, Alabama (FTZ Docket B-33-2023, docketed May 22, 2023);

Whereas, notice inviting public comment has been given in the Federal Register (88 FR 34127-34128, May 26, 2023) and the application has been processed pursuant to the FTZ Act and the Board's regulations; and,

Whereas, the Board adopts the findings and recommendations of the examiners' memorandum, and finds that the requirements of the FTZ Act and the Board's regulations are satisfied;

Now, therefore, the Board hereby approves the expansion of Subzone 98A on behalf of Mercedes-Benz U.S. International, Inc. in Moundville, Vance and Woodstock, Alabama, as described in the application and Federal Register notice, subject to the FTZ Act and the Board's regulations, including section 400.13.

Dated: October 20, 2023.
Lisa W. Wang,
Assistant Secretary for Enforcement and Compliance, Alternate Chairman, Foreign-Trade Zones Board.

[FR Doc. 2023-23609 Filed 10-24-23; 8:45 am]

BILLING CODE 3510-DS-P